DEPARTMENT OF HEALTH AND HUMAN SERVICES

Administration for Children and Families

Statement of Organization, Functions, and Delegations of Authority

AGENCY: Administration for Children and Families, HHS.

ACTION: Notice.

SUMMARY: This notice amends Part K of the Statement of Organization, Functions, and Delegations of Authority of the Department of Health and Human Services (DHHS), Administration for Children and Families (ACF), as follows: Office of the Assistant Secretary for Children and Families, as last amended by77 FR 61002, September 21, 2012, and Office of Refugee Resettlement, as last amended by 80 FR 3614, January 23, 2015. This notice adds a new office, the Office on Trafficking in Persons to the Office of the Assistant Secretary for Children and Families and transfers the functions of the Division of Anti-Trafficking in Persons to this office. The changes are as follows:

I. Under Chapter KA, Office of the Assistant Secretary for Children and Families, Make the Following Changes

A. Delete KA.00 Mission in its entirety and replace with the following:

KA.00 Mission. The Office of the Assistant Secretary for Children and Families (OAS) provides executive direction, leadership, and guidance for all ACF programs. OAS provides national leadership to develop and coordinate public and private initiatives for carrying out programs that promote permanency placement planning, family stability, and self-sufficiency. OAS advises the Secretary on issues affecting America's children and families, including Native Americans, refugees, legalized aliens, and victims of human trafficking. OAS provides leadership on human service issues and conducts emergency preparedness and response operations during a nationally declared emergency.

B. Delete KA.10 Organization in its entirety and replace with the following:

KA.10 Organization. The Office of the Assistant Secretary for Children and Families is headed by the Assistant Secretary for Children and Families who reports directly to the Secretary and consists of:

Office of the Assistant Secretary for Children and Families (KA)

Executive Secretariat Office (KAF)

Office of Human Services Emergency Preparedness and Response (KAG)

Office of the Deputy Assistant Secretary and Inter-Departmental Liaison for Early Childhood Development (KAH)

Office on Trafficking in Persons (KAI)

C. Establish KA.20 Functions, Paragraph E, The Office on Trafficking in Persons:

E. The Office on Trafficking in Persons (KAI): The Office on Trafficking in Persons (OTIP) is responsible for the overall leadership of anti-trafficking programs and services under the purview of ACF, including, but not limited to, implementing provisions of the Trafficking Victims Protection Act (TVPA). OTIP is led by a Director, with the required knowledge and expertise in advising the Assistant Secretary, ACF, in the development of anti-trafficking strategies, policies, and programs to prevent human trafficking, build health and human service capacity to respond to human trafficking, increase victim identification and access to services, and strengthen the long-term health and well-being outcomes of survivors of human trafficking. The Office certifies or provides letters of eligibility, as appropriate, to victims of severe forms of trafficking, in accordance with the TVPA and promotes public awareness on human trafficking. The Office identifies research priorities for ACF's anti-trafficking work, and leads the preparation and presentation of related memorandums, reports, briefings, trainings, technical assistance, and analyses.

II. Under Chapter KR, Office of Office of Refugee Resettlement, Make the Following Changes

A. Under Chapter KR, Office of Refugee Resettlement, delete KR.00 Mission in its entirety and replace with the following:

KR.00 Mission. The Office of Refugee Resettlement (ORR) advises the Secretary, through the Assistant Secretary for Children and Families, on matters relating to refugee resettlement, immigration, victims of torture, unaccompanied alien children, and the repatriation of U.S. citizens. The Office plans, develops, and directs implementation of a comprehensive program for domestic refugee and entrant resettlement assistance to include cash assistance, medical assistance, and associated social services in support of early self-sufficiency. It develops, recommends, and issues program policies, procedures, and interpretations to provide program direction. The Office monitors and evaluates the performances of States and other public and private agencies in administering these programs and supports actions to improve them. It provides leadership and direction in the development and coordination of national public and private programs that provide assistance to refugees, asylees, Cuban and Haitian entrants, and certain Amerasians and victims of severe forms of trafficking in persons. The Office is also responsible for the care and custody of unaccompanied alien children, the provision of specific consent in Special Immigrant Juvenile status cases, and the policies, procedures, and interpretations needed in these program areas.

B. Under Chapter KR, ORR, delete KR.10 Organization, in its entirety and replace with the following:

KR.10 Organization. ORR is headed by a Director, who reports to the Assistant Secretary for Children and Families. The Office is organized as follows:

Office of the Director (KRA)

Division of Policy (KRA1)

Division of Refugee Assistance (KRE)

Division of Refugee Services (KRF)

Division of Children's Services (KRH)

Division of Refugee Health (KRJ)

C. Under Chapter KR, ORR, delete KR.20 Functions, Paragraph E in its entirety and renumber the current paragraph F as paragraph E.

FOR FURTHER INFORMATION CONTACT: Katherine Chon, Director, Office on Trafficking in Persons, Administration for Children and Families, 901 D Street SW., Washington, DC 20447; (202) 401-9372.

This reorganization will be effective on June 10, 2015.
Mark H. Greenberg,
Acting Assistant Secretary for Children and Families.

[FR Doc. 2015-14313 Filed 6-10-15; 8:45 am]

BILLING CODE 4184-01-P